DEPARTMENT OF TRANSPORTATION

Office of the Secretary

Port Performance Freight Statistics Working Group

AGENCY: Bureau of Transportation Statistics (BTS), Office of the Assistant Secretary for Research and Technology, U.S. Department of Transportation.

ACTION: Notice of Establishment of Port Performance Freight Statistics Working Group and Solicitation of Nominations for Membership.

SUMMARY: Pursuant to section 6314 of title 49, United States Code, as codified by section 6018 of the Fixing America's Surface Transportation (FAST) Act (Pub. L. 114-94; 129 Stat. 1312) and section 9(a)(1) of the Federal Advisory Committee Act (FACA), and following consultation with the Committee Management Secretariat, General Services Administration, notice is hereby given that the Port Performance Freight Statistics Working Group (hereafter, “Working Group”) will be established and make its recommendations on or before December 4, 2016. Further, this notice serves as a request for nominations for representatives to the Working Group.

The establishment of the Working Group is necessary for the Department to carry out its mission and in the best interest of the public. The Working Group will operate in accordance with the provisions of the FACA and the rules and regulations issued in implementation of that Act.

DATES: The deadline for nominations for Working Group representatives must be received on or before March 24, 2016.

ADDRESSES: All nomination material should be emailed to the BTS Director Patricia Hu at: portstatistics@dot.gov or mailed to Office of the Assistant Secretary for Research and Technology, Bureau of Transportation Statistics, Attn: Port Performance Freight Statistics Working Group, U.S. Department of Transportation, 1200 New Jersey Avenue SE., Room # E34-429, Washington, DC 20590. Any person requiring accessibility accommodations should contact the Bureau of Transportation Statistics at (202) 366-1270; or email BTS Director Patricia Hu at: portstatistics@dot.gov.

FOR FURTHER INFORMATION CONTACT: Office of the Assistant Secretary for Research and Technology, Bureau of Transportation Statistics, Attn: Port Performance Freight Statistics Working Group, U.S. Department of Transportation, 1200 New Jersey Avenue SE., Room # E34-429, Washington, DC 20590; phone: (202) 366-1270; or email: portstatistics@dot.gov.

SUPPLEMENTARY INFORMATION: As part of meeting the requirement under 49 U.S.C. 6314(c), the BTS Director is establishing the Working Group to receive recommendations on matters related to port performance measures, including:

(a) Identifying a generally accepted industry standard for port data collection and reporting.

(b) Specifying standards for collecting data and reporting nationally consistent port performance measures.

(c) Making recommendations for statistics measuring on U.S. port capacity and throughput.

(d) Developing a process for the U.S. Department of Transportation (hereafter, “Department”) to collect timely and consistent data, including identifying safeguards to protect proprietary information.

The Department is hereby soliciting nominations for Working Group representatives. The BTS Director on behalf of the Secretary of Transportation will appoint the Working Group members. In accordance with 49 U.S.C. 6314(c), the Working Group shall be comprised of representatives from a number of Federal agencies, organizations, and industries. The Department is seeking nominations to fill the following positions on the Working Group:

• 1 representative from the rail industry;

• 1 representative from the trucking industry;

• 1 representative from the maritime shipping industry;

• 1 representative from a labor organization for each industry [rail, trucking, and maritime shipping];

• 1 representative from the International Longshoremen's Association;

• 1 representative from the International Longshore and Warehouse Union;

• 1 representative from a port authority;

• 1 representative from a terminal operator; and

• representatives of the Transportation Research Board of the National Academies of Sciences, Engineering, and Medicine.

In establishing the Working Group, the Department shall establish a Chair and Vice Chair of the Working Group from among those selected representatives, and the Working Group is expected to meet as necessary to fulfill the purpose for which it was established. Working Group representatives shall serve without compensation and those who are not Government employees shall be appointed as Special Government Employees, subject to certain ethics restrictions, and required to submit certain information in connection with the appointment process.

The Working Group may seek subject matter experts (SMEs) from organizations which are not represented on the Working Group to serve on subcommittees. These SMEs who are called upon solely for their expertise may also be appointed as Special Government Employees and will be subject to certain ethics restrictions, and such subcommittee members will be required to submit certain information in connection with the appointment process.

Process and Deadline for Submitting Nominations: Qualified individuals may self-nominate or be nominated by any individual or organization. To be considered for the Port Performance Freight Statistics Working Group, nominators should submit the following information:

(1) Name, title, and relevant contact information (including phone, fax, and email address) of the individual under consideration;

(2) A letter, on letterhead, from a company, union, trade or membership association, or non-profit organization containing a brief description why the nominee should be considered for membership;

(3) Short biography of nominee including professional and academic credentials;

(4) An affirmative statement that the nominee meets all Working Group eligibility requirements.

Please do not send company, trade association, or organization brochures or any other information. Materials submitted should total two pages or less. Should more information be needed, Departmental staff will contact the nominee, obtain information from the nominee's past affiliations, or obtain information from publicly available sources, such as the Internet.

Nominations may be emailed to BTS Director Patricia Hu at: portstatistics@dot.gov or mailed to Office of the Assistant Secretary for Research and Technology, Bureau of Transportation Statistics, Attn: Port Performance Freight Statistics Working Group, U.S. Department of Transportation, 1200 New Jersey Avenue SE., Room # E34-429, Washington, DC 20590. Nominations must be received before March 24, 2016. Nominees selected for appointment to the Working Group will be notified by return email and receive a letter of appointment.

A selection team comprising representatives from several Department operating administrations will review the nomination packages. The selection team will make recommendations regarding membership to the BTS Director based on criteria including:

(1) Professional or academic expertise, experience, and knowledge;

(2) stakeholder representation;

(3) availability and willingness to serve; and

(4) skills working collaboratively on committees and advisory panels.

Based upon the selection team's recommendations, the BTS Director on behalf of the Secretary of Transportation will select representatives. In the selection of members for the advisory committee, the Department will seek to ensure a balanced representation and consider a cross-section of those directly affected, interested, and qualified, as appropriate to the nature and functions of the advisory committee.

Nominations are open to all individuals without regard to race, color, religion, sex, national origin, age, mental or physical disability, marital status, or sexual orientation. To ensure that recommendations to the Secretary take into account the needs of the diverse groups served by the Department, membership shall include, to the extent practicable, individuals with demonstrated ability to represent minorities, women, and persons with disabilities.

Rolf R. Schmitt,
Deputy Director, Bureau of Transportation Statistics.

[FR Doc. 2016-03702 Filed 2-22-16; 8:45 am]

BILLING CODE 4910-9X-P